DEPARTMENT OF COMMERCE

National Oceanic and Atmospheric Administration

50 CFR Part 660

[Docket No. 240229-0063]

RIN 0648-BL80

Fisheries Off West Coast States; Extension of Emergency Action to Temporarily Modify Continuous Transit Limitations for California Recreational Vessels

AGENCY: National Marine Fisheries Service (NMFS), National Oceanic and Atmospheric Administration (NOAA), Commerce.

ACTION: Temporary rule; emergency action extended.

SUMMARY: This temporary rule extends emergency measures that modify a continuous transit requirement for California recreational vessels. This modification will temporarily allow recreational vessels to anchor overnight and/or stop to fish for non-groundfish species inside the seasonal Recreational Rockfish Conservation Area off the coast of California, also known as the 50-fathom (91-meter) offshore fishery. These emergency measures were originally authorized until September 30, 2024. This temporary rule extends the emergency measures through December 31, 2024. This emergency measure will prevent the possible cancellation of thousands of recreational fishing trips during the 2024 recreational fishing season off California.

DATES: Effective August 20, 2024 until December 31, 2024.

ADDRESSES:

Electronic Access

This emergency rule is accessible via the internet at the Office of the Federal Register website at https://ecfr.federalregister.gov/. The continuing environmental effects of the California recreational fishery were previously considered under the Environmental Assessment for Amendment 30 to the Pacific Coast Groundfish Fishery Management Plan, 2023-2024 Harvest Specifications, and Management Measures. This document is available on the NMFS West Coast Region website at: https://www.fisheries.noaa.gov/species/west-coast-groundfish.html.

FOR FURTHER INFORMATION CONTACT: Lynn Massey, phone: 562-900-2060, or email: lynn.massey@noaa.gov.

SUPPLEMENTARY INFORMATION: The Pacific Coast Groundfish fishery in the U.S. exclusive economic zone (EEZ) seaward of Washington, Oregon, and California is managed under the Pacific Coast Groundfish Fishery Management Plan (FMP). The Pacific Fishery Management Council (Council) developed the Pacific Coast Groundfish FMP pursuant to the Magnuson-Stevens Fishery Conservation and Management Act (Magnuson-Stevens Act), 16 U.S.C. 1801 et seq. The Secretary of Commerce approved the Pacific Coast Groundfish FMP and implemented the provisions of the plan through Federal regulations at 50 CFR part 660, subparts C through G. Species managed under the Pacific Coast Groundfish FMP include more than 90 species of roundfish, flatfish, rockfish, sharks, and skates.

On April 1, 2024, NMFS published a temporary emergency rule (89 FR 22352) that allows recreational vessels in California to stop and/or anchor in Federal waters shoreward of the Recreational Rockfish Conservation Area (RCA) line when the fishery is offshore-only. A full description of the issue can be found in the emergency rule (April 1, 2024, 89 FR 22352). NMFS held a public comment period on the emergency rule for 30 days from April 1, 2024, to May 1, 2024 and received no comments. Without extension, the emergency rule would expire on September 30, 2024. The California recreational groundfish seasons in the management areas from the border with Oregon to 36° N lat. are open in the offshore fishery in the months of October and December (closed in November). The management areas south of 36° N lat. are open in the offshore fishery in the months of October, November, and December (50 CFR 660.360(c)(3)(i)(A)). Therefore, this issue remains relevant through the remainder of the calendar year. The Council has developed an action to address this issue permanently, which, if approved, would be effective in 2025. Therefore, consistent with section 305(c)(3) of the Magnuson-Stevens Act, NMFS finds good cause to extend the emergency measures until December 31, 2024.

Emergency Measures

In Federal waters, extending the emergency measures requires a modification to 50 CFR 660.360(c)(3)(i)(A) that requires recreational vessels to continuously transit while shoreward of the RCA boundary. Under the extension of this emergency measure, recreational vessels in California would be allowed to stop and/or anchor in Federal waters shoreward of the Recreational RCA line until December 31, 2024. Recreational fishing vessels off of California would not be able to deploy groundfish recreational gear inside the Recreational RCA, therefore this action would not create any new risks of quillback rockfish mortality. Hook-and-line gear is the primary gear type used by recreational vessels to target groundfish; therefore, prohibiting its deployment while inside the Recreational RCA would help enforce the modified transit provisions while still allowing vessels to use other gear types for non-groundfish fishing (e.g., traps for lobster or hoop nets for bait fish). This extended emergency rule would not change any other elements of the California recreational fishery. For additional explanation on the rationale and effects of this emergency rule extension, see the original emergency rule published on April 1, 2024 (89 FR 22352).

Classification

NMFS is issuing an extension of this emergency rule pursuant to section 305(3)(c) of the Magnuson-Stevens Act. The NMFS Assistant Administrator has determined that this emergency rule is consistent with the Pacific Coast Groundfish FMP, section 305(c) and other provisions of the Magnuson-Stevens Act, the Administrative Procedure Act (APA), and other applicable law. Pursuant to 5 U.S.C. 553(b)(B), the Assistant Administrator for Fisheries finds prior notice and public comment is not required because it would be impracticable and contrary to the public interest. The reasons justifying promulgation of this rule on an emergency basis, coupled with the fact that the public has had the opportunity to comment on the original emergency rule, make solicitation of additional comment unnecessary, impractical and contrary to the public interest. This rule must be in place before the expiration of the original emergency rule to provide the necessary relief to California recreational fishery participants. Modifying the continuous transit requirement for California recreational vessels would not pose a conservation risk; and it would allow recreational vessels to continue to utilize multi-day and multi-target trips even when the offshore fishery is in place. The impacts of the California recreational fisheries have been prior analyzed in the Environmental Assessment for Amendment 30 to the Pacific Coast Groundfish Fishery Management Plan, 2023-2024 Harvest Specifications, and Management Measures.

Additionally, this rule is excepted from the 30-day delayed effectiveness provision of the APA under 5 U.S.C. 553(d)(1) because it relieves a restriction that would otherwise place California recreational vessels at an economic disadvantage in 2024. Immediate implementation of this rule is necessary to prevent the possible cancellation of thousands of fishing trips that could otherwise occur if not for the current continuous transit requirement.

This action is being taken pursuant to the emergency provision of the Magnuson-Stevens Act and is exempt from Office of Management and Budget review.

The Regulatory Flexibility Act does not apply to this emergency rule because prior notice and opportunity for public comment is not required.

This emergency/interim rule contains no information collection requirements under the Paperwork Reduction Act.

List of Subjects in 50 CFR Part 660

Fisheries, Fishing, and Fishing vessels.

Dated: August 14, 2024.
Samuel D. Rauch, III,
Deputy Assistant Administrator for Regulatory Programs, National Marine Fisheries Service.

For the reasons set out in the preamble, NMFS amends 50 CFR part 660 as follows:

PART 660—FISHERIES OFF WEST COAST STATES

1. The authority citation for part 660 continues to read as follows:

Authority: 16 U.S.C. 1801 et seq., 16 U.S.C. 773 et seq., and 16 U.S.C 7001 et seq.

2. In § 660.360, revise paragraph (c)(3)(i)(A)(6) to read as follows:

* * * * *

(c) * * *

(3) * * *

(i) * * *

(A) * * *

(6) Emergency rule revising continuous transit requirement. Effective August 20, 2024 until December 31, 2024, notwithstanding any other section of these regulations, in times and areas where a recreational RCA is closed shoreward of a recreational RCA line (i.e., when an “off-shore only” fishery is active in that management area) vessels may stop, anchor in, or transit through waters shoreward of the recreational RCA line so long as they do not have any hook-and-line fishing gear in the water.

* * * * *

[FR Doc. 2024-18581 Filed 8-19-24; 8:45 am]

BILLING CODE 3510-22-P